DEPARTMENT OF COMMERCE

International Trade Administration

[A-570-051]

Certain Hardwood Plywood Products From the People's Republic of China: Postponement of Preliminary Determination of Antidumping Duty Investigation

AGENCY: Enforcement and Compliance, International Trade Administration, Department of Commerce.

DATES: Effective March 6, 2017.

FOR FURTHER INFORMATION CONTACT: Amanda Brings at (202) 482-3927 or Ryan Mullen at (202) 482-5260, AD/CVD Operations, Office V, Enforcement and Compliance, International Trade Administration, U.S. Department of Commerce, 1401 Constitution Avenue NW., Washington, DC 20230.

SUPPLEMENTARY INFORMATION:

Background

On December 8, 2016, the Department of Commerce (the Department) initiated an antidumping duty investigation of certain hardwood plywood products from the People's Republic of China.¹ Section 733(b)(1)(A) of the Tariff Act of 1930, as amended (the Act), and 19 CFR 351.205(b)(1) state that the Department will make a preliminary determination no later than 140 days after the date of the initiation. Accordingly, the preliminary determination of this antidumping duty investigation is currently due no later than April 27, 2017.

¹ See Certain Hardwood Plywood Products From the People's Republic of China: Initiation of Less-Than-Fair-Value Investigation, 81 FR 91125 (December 16, 2016).

Postponement of Preliminary Determination

On February 21, 2017, the Coalition for Fair Trade in Hardwood Plywood and its individual members (Petitioners), made a timely request, pursuant to 19 CFR 351.205(e), for postponement of the preliminary determination, in order to facilitate the Department's analysis of the data and questionnaire responses submitted by respondents.² Because there are no compelling reasons to deny the request, in accordance with section 733(c)(1)(A) of the Act, the Department is postponing the deadline for the preliminary determination by 50 days.

² See Letter to the Acting Secretary of Commerce from Petitioners, re: “Certain Hardwood Plywood Products from the People's Republic of China: Petitioner's Request to Extend Preliminary Determination” (February 21, 2017).

For the reasons stated above, the Department, in accordance with section 733(c)(1)(A) of the Act, is postponing the deadline for the preliminary determination to no later than 190 days after the date on which the Department initiated this investigation. Therefore, the new deadline for the preliminary determination is June 16, 2017. In accordance with section 735(a)(1) of the Act, the deadline for the final determination of this investigation will continue to be 75 days after the date of the preliminary determination, unless postponed at a later date.

This notice is issued and published pursuant to section 733(c)(2) of the Act and 19 CFR 351.205(f)(1).

Dated: February 27, 2017.
Ronald K. Lorentzen,
Acting Assistant Secretary for Enforcement and Compliance.

[FR Doc. 2017-04264 Filed 3-3-17; 8:45 am]

BILLING CODE 3510-DS-P